DEPARTMENT OF ENERGY

Federal Energy Regulatory Commission

[Docket No. RM06-16-000]

Mandatory Reliability Standards for the Bulk-Power System; Meeting Announcement

Issued April 18, 2006.

On April 4, 2006, the North American Electric Reliability Council, on behalf of its wholly-owned subsidiary, the North American Electric Reliability Corporation (NERC), filed 102 proposed Reliability Standards for Commission approval, subject to its application for certification as the Electric Reliability Organization (ERO) pursuant to section 215 of the Federal Power Act (FPA).

The Commission is opening the above referenced rulemaking docket for processing the proposed Reliability Standards submitted by NERC. The Commission anticipates issuing a Notice of Proposed Rulemaking (NOPR) on the Reliability Standards in July. However, prior to issuance of a NOPR, Commission staff will release its preliminary assessment of the proposed Reliability Standards. Further the Commission intends to hold a technical conference on the proposed standards and preliminary assessment. The Commission will provide an opportunity to comment on the preliminary assessment and technical conference.

This pre-NOPR process will allow industry participants to help the Commission to determine which of the Reliability Standards the Commission should propose to accept, remand or conditionally accept, and the type of guidance and appropriate timelines we should propose for revising and improving standards as we transition to the new mandatory Reliability Standard regime.

This filing is accessible online at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

By direction of the Commission.
Magalie R. Salas,
Secretary.

[FR Doc. E6-6148 Filed 4-24-06; 8:45 am]

BILLING CODE 6717-01-P